DEPARTMENT OF TRANSPORTATION

Federal Aviation Administration

14 CFR Part 39

[Docket No. FAA-2023-0434; Product Identifier 91-NM-255-AD; Amendment 39-22450; AD 92-02-14 R1]

RIN 2120-AA64

Airworthiness Directives; Airbus SAS Airplanes

AGENCY: Federal Aviation Administration (FAA), DOT.

ACTION: Final rule; removal.

SUMMARY: The FAA is removing Airworthiness Directive (AD) 92-02-14, which applied to certain Airbus SAS Model A320 series airplanes. AD 92-02-14 required inspection for correct installation of the flexible control cables on the overwing emergency escape slides. The FAA issued AD 92-02-14 to prevent failure of the overwing emergency escape slides to deploy, which would compromise use of the exit during an emergency. Since the FAA issued AD 92-02-14, no new occurrences of incorrect cable installations have been reported, and existing maintenance activities are adequate to prevent new occurrences. Therefore, the FAA has determined that AD 92-02-14 is no longer necessary. Accordingly, AD 92-02-14 is removed.

DATES: This AD becomes effective June 2, 2023.

ADDRESSES:

AD Docket: You may examine the AD docket at regulations.gov under Docket No. FAA-2023-0434; or in person at Docket Operations between 9 a.m. and 5 p.m., Monday through Friday, except Federal holidays. The AD docket contains this final rule, mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, International Validation Branch, FAA, 2200 South 216th St., Des Moines, WA 98198; phone 206-231-3225; email Dan.Rodina@faa.gov.

SUPPLEMENTARY INFORMATION:

Background

The FAA issued a notice of proposed rulemaking (NPRM) to amend 14 CFR part 39 by removing AD 92-02-14, Amendment 39-8150 (57 FR 5375, February 14, 1992) (AD 92-02-14). AD 92-02-14 applied to certain Airbus SAS Model A320 series airplanes. The NPRM was published in the Federal Register on March 24, 2023 (88 FR 17751). The NPRM was prompted by the determination that AD 92-02-14 is no longer necessary. AD 92-02-14 required inspection for correct installation of the flexible control cables on the overwing emergency escape slides. The FAA issued AD 92-02-14 to prevent failure of the overwing emergency escape slides to deploy, which would compromise use of the exit during an emergency. Since the FAA issued AD 92-02-14, no new occurrences of incorrect cable installations have been reported, and existing maintenance activities are adequate to prevent new occurrences. The NPRM proposed to remove AD 92-02-14. The FAA is issuing this AD to remove AD 92-02-14.

Discussion of Final Airworthiness Directive

Comments

The FAA received a comment from The Air Line Pilots Association, International (ALPA), in support of the NPRM without change.

Justification for Determination of the Effective Date

Section 553(d) of the Administrative Procedure Act (APA) (5 U.S.C. 551 et seq.) authorizes agencies to make rules effective in less than thirty days, upon a finding of “good cause.” Since the FAA issued AD 92-02-14, no new occurrences of incorrect cable installations have been reported, and existing maintenance activities are adequate to prevent new occurrences. Therefore, the FAA is issuing this AD to remove AD 92-02-14, and the FAA did not receive any adverse comments or useful information about this AD from U.S. operators that necessitates waiting 30 days for relief from this requirement. Accordingly, the FAA finds that good cause exists pursuant to 5 U.S.C. 553(d) for making this amendment effective in less than 30 days.

Conclusion

The FAA reviewed the relevant data, considered the comment received, and determined that air safety requires adopting this AD as proposed. Except for minor editorial changes, this AD is adopted as proposed in the NPRM. None of the changes will increase the economic burden on any operator.

This AD removes all actions of AD 92-02-14. Therefore, the requirements of AD 92-02-14 are terminated.

Related Costs of Compliance

This AD adds no costs. This AD removes AD 92-02-14 from 14 CFR part 39; therefore, operators are no longer required to show compliance with that AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 92-02-14, Amendment 39-8150 (57 FR 5375, February 14, 1992), and

b. Adding the following new AD:

92-02-14 R1 Airbus SAS: Amendment 39-22450; Docket No. FAA-2023-0434; Product Identifier 92-NM-155-AD.

(a) Effective Date

This AD is effective June 2, 2023.

(b) Affected AD

This AD replaces AD 92-02-14, Amendment 39-8150 (57 FR 5375, February 14, 1992).

(c) Applicability

This action applies to Airbus Model A320-211, A320-212, and A320-231 airplanes, certificated in any category, manufacturer serial numbers 002 through 162 inclusive, 167, and 171 through 174 inclusive.

(d) Subject

Air Transport Association (ATA) of America Code 25, Equipment/Furnishings.

(e) Terminating Action

This AD terminates all requirements of AD 92-02-14.

(f) Related Information

For more information about this AD, contact Dan Rodina, Aerospace Engineer, International Validation Branch, FAA, 2200 South 216th St., Des Moines, WA 98198; phone 206-231-3225; email Dan.Rodina@faa.gov.

(g) Material Incorporated by Reference

None.

Issued on May 26, 2023.
Ross Landes,
Deputy Director for Regulatory Operations, Compliance & Airworthiness Division, Aircraft Certification Service.

[FR Doc. 2023-11705 Filed 6-1-23; 8:45 am]

BILLING CODE 4910-13-P